FEDERAL COMMUNICATIONS COMMISSION

47 CFR Parts 36 and 54

[CC Docket Nos. 96-45 and 00-256; FCC 01-157]

Federal-State Joint Board on Universal Service; Multi-Association Group Plan for Regulation of Interstate Services of Non-Price Cap Incumbent Local Exchange Carriers and Interexchange Carriers.

AGENCY: Federal Communications Commission.

ACTION: Final rule; announcement of effective date.

SUMMARY: This document announces the effective date of the amendments to our rules for providing high-cost universal service support to rural telephone companies for the next five years based upon the proposals made by the Rural Task Force. We believe these modifications will strike a fair and reasonable balance among the universal service principles and goals enumerated in the Telecommunications Act. The Fourteenth Report and Order and Twenty-Second Order on Reconsideration in CC Docket No. 96-45, and the Report and Order in CC Docket No. 00-256 was published in the Federal Register on June 5, 2001. Some of the rules contained information collection requirements.

DATES: Sections 36.605(c)(2), 36.611, 54.305(f), the amendments to §§ 54.307(b), 54.313(b) and (c), 54.314, and 54.315 published at 66 FR 30080, June 5, 2001, were approved by the Office of Management and Budget (OMB) on June 19, 2001 and became effective on June 19, 2001.

FOR FURTHER INFORMATION CONTACT: Genaro Fullano, Paul Garnett, or Greg Guice, Attorney, Accounting Policy Division, Common Carrier Bureau, (202) 418-7400, TTY: (202) 418-0484.

SUPPLEMENTARY INFORMATION: On May 23, 2001, the Commission released a Fourteenth Report and Order, Twenty-Second Order on Reconsideration in CC Docket No. 96-45, and Report and order in CC Docket No. 00-256 (Order), 66 FR 30080, June 5, 2001, that took action in response to the Rural Task Force's recommended reforms to rural high-cost universal service support and the proposals made by the Multi-Association Group relating to this universal service support mechanism. Specifically, the revised rules will provide certainty and stability for rural carriers for the next five years, enabling them to continue to provide supported services at affordable rates to American consumers. The Commission believes these modifications will preserve and advance universal service, consistent with the goals and principles set forth in section 254 of the Communications Act of 1934, as amended by the Telecommunications Act of 1996, and encourage competition in high-cost areas, consistent with the competitive goal of the 1996 Act. A summary of the Order was published in the Federal Register. See 66 FR 30080, June 5, 2001. Some of the rules contained information collection requirements that required OMB approval. On June 19, 2001, OMB approved the information collections. See OMB No. 3060-0986. The rule amendments adopted by the Commission in the Order took effect on June 19, 2001. This publication satisfies the statement in the Order that the Commission would publish a document in the Federal Register announcing the effective date of the rules.

List of Subjects

47 CFR Part 36

Jurisdictional separations, Reporting and recordkeeping requirements, Telecommunications, Telephone.

47 CFR Part 54

Reporting and recordkeeping requirements, Telecommunications, Telephone.

Federal Communications Commission.
Magalie Roman Salas,
Secretary.

[FR Doc. 01-16421 Filed 6-28-01; 8:45 am]

BILLING CODE 6712-01-P